DEPARTMENT OF THE INTERIOR

Fish and Wildlife Service

50 CFR Part 17

RIN 1018-AF79

Endangered and Threatened Wildlife and Plants; Reopening of Comment Period on the Proposed Threatened Status and Critical Habitat Determination for Silene spaldingii (Spalding's Catchfly)

AGENCY: Fish and Wildlife Service, Interior.

ACTION: Proposed rule; notice of reopening of comment period.

SUMMARY: We, the U.S. Fish and Wildlife Service (Service), pursuant to the Endangered Species Act of 1973, as amended (Act), reopen the comment period on the proposal to list Silene spaldingii (Spalding's catchfly) as a threatened species, and our critical habitat determination for the species. The comment period is extended to accommodate the public notice requirement of the Act. In addition, reopening of the comment period will allow further opportunity for all interested parties to submit comments on the proposal, which is available (see ADDRESSES section). We are seeking comments or suggestions from the public, other concerned governmental agencies, the scientific community, industry, or any other interested parties concerning the proposed rule and critical habitat determination. Comments already submitted on the proposed rule and critical habitat determination need not be resubmitted as they will be fully considered in the final determination.

DATES: Comments from all interested parties must be received by September 22, 2000.

ADDRESSES: If you wish to comment, you may submit your comments and materials concerning this proposal by any one of several methods.

1. You may submit written comments and information to the Supervisor, U.S. Fish and Wildlife Service, Snake River Basin Office, 1387 S. Vinnell Way, Room 368, Boise, Idaho 83709.

2. You may hand-deliver written comments to our Snake River Basin Office, at the address given above.

3. You may send comments by electronic mail (e-mail) to FW1SRBOComment@fws.gov. Please submit comments as an ASCII file format and avoid the use of special characters and encryption. Please also include “Attn: [RIN number]” and your name and return address in your e-mail message. If you do not receive a confirmation from the system that we have received your e-mail message, contact us directly by calling our Snake River Basin Office at phone number 208/378-5243.

FOR FURTHER INFORMATION CONTACT: Robert Ruesink, Supervisor, at the above address (telephone 208/378-5243; facsimile 208/378-5262).

SUPPLEMENTARY INFORMATION:

Background

A member of the pink or carnation family (Caryophyllaceae), Silene spaldingii Watson is a long-lived perennial herb with four to seven pairs of lance-shaped leaves and a spirally arranged inflorescence (group of flowers) consisting of small greenish-white flowers. The foliage is lightly to densely covered with sticky hairs. Reproduction is by seed only; S. spaldingii does not possess rhizomes or other means of vegetative reproduction (Lesica 1992). Plants range from approximately 2 to 6 decimeters (dm) (8 to 24 inches (in.)) in height (Lichthardt 1997).

First collected in the vicinity of the Clearwater River, Idaho, between 1836 and 1847, Silene spaldingii was originally described by Watson (Watson 1875). This taxon was retained as a full species in a recent, comprehensive regional flora (Hitchcock and Cronquist 1973).

The distribution and habitat of Silene spaldingii are limited. The total number of sites discussed in the 90-day finding for S. spaldingii (63 FR 63661) was 94, which is larger than the number of populations identified in this final rule. The number of sites stated in the petition finding was based primarily on information (generally known as element occurrence records) available in State natural heritage data bases. In the proposed rule, we felt it was appropriate to group certain element occurrence records for S. spaldingii together when the sites were located approximately 1.6 kilometer (km) (1 mile (mi)) or less apart. Thus, the difference in the number of S. spaldingii locations described in the 90-day finding does not reflect the actual loss or extirpation of sites.

This species is currently known from a total of 52 populations in the United States and British Columbia, Canada. Of the 51 Silene spaldingii populations in the United States, 7 occur in Idaho (Idaho, Lewis, and Nez Perce counties), 7 in Oregon (Wallowa County), 9 in Montana (Flathead, Lake, Lincoln, and Sanders counties), and 28 in Washington (Asotin, Lincoln, Spokane, and Whitman counties). A population consists of one to several sites that are generally located less than 1.6 km (1 mi) apart. The number of Silene spaldingii individuals within each population ranges from one to several thousand. Eighteen populations contain more than 50 individuals; only 6 of these populations are moderately large (i.e., contain more than 500 plants). Of the 6 largest populations, 2 are found in Oregon (Wallowa County), 1 in Idaho (Nez Perce County), 1 in Montana (Lincoln County), and 2 in Washington (Asotin and Lincoln Counties). The 6 moderately large populations contain approximately 84 percent (i.e., 13,800 individuals) of the total number of Silene spaldingii. The total number of S. spaldingii individuals for all 52 populations is about 16,500 (Edna Rey-Vizgirdas, Service, in litt. 1999).

Much of the remaining habitat occupied by Silene spaldingii is fragmented. For example, S. spaldingii sites in Oregon are located at least 64 km (40 mi) from the nearest known sites in eastern Washington. Silene spaldingii sites in Montana are approximately 190 km (120 mi) from occupied habitat in Idaho and Washington. Approximately 52 percent of extant Silene spaldingii populations occur on private land, 10 percent on State land, 33 percent on Federal land, and 5 percent on Tribal land (E. Rey-Vizgirdas, in litt. 1999).

This species is primarily restricted to mesic (not extremely wet nor extremely dry) grasslands (prairie or steppe vegetation) that make up the Palouse region in southeastern Washington, northwestern Montana, and adjacent portions of Idaho and Oregon. In addition, approximately 100 plants were located in British Columbia (Geraldine Allen, University of Victoria, in litt. 1996). Palouse prairie is considered to be a subset of the Pacific Northwest bunchgrass habitat type (Tisdale 1986). In Idaho, Palouse prairie is confined to a narrow band along the western edge of central and north-central Idaho, centering on Latah County (Tisdale 1986; Ertter and Moseley 1992). Large-scale ecological changes in the Palouse region over the past century, including agricultural conversion, changes in fire frequency, and alterations of hydrology, have resulted in the decline of numerous sensitive plant species including Silene spaldingii (Tisdale 1961). More than 98 percent of the original Palouse prairie habitat has been lost or modified by agricultural conversion, grazing, invasion of non-native plant species, altered fire regimes, and urbanization (Noss et al. 1995). Some suitable habitat for Silene spaldingii remains on the fringes of the Palouse region and in the forested portion of the channeled scablands in central Washington (John Gamon, Washington Natural Heritage Program, in litt. 2000). Low density subdivision and development and increased use of lands in and around the forested portion of the channeled scablands in central Washington likely poses a significant threat to Silene spaldingii populations remaining in this area (J. Gamon, in litt. 2000).

Silene spaldingii is also found in canyon grassland habitat, another division of the Pacific Northwest bunchgrass habitat type (Tisdale 1986). Canyon grasslands are dominated by the same bunchgrass species as Palouse prairie, but the two habitat types differ somewhat in their overall plant species composition (Janice Hill, The Nature Conservancy, in litt. 2000; Greg Yuncevich, Bureau of Land Management, in litt. 2000). In addition, canyon grasslands occur in steep, highly dissected canyon systems whereas Palouse grasslands generally occur on gently rolling plateaus. The steep contours in canyon grasslands result in pronounced habitat diversity (G. Yuncevich, in litt. 2000). This steepness has also prevented conversion of canyon grasslands to other uses, such as agriculture. Nevertheless, other disturbances (e.g., livestock grazing and the invasion of exotic plant species) have caused significant alterations of the native vegetation of canyon grasslands, although portions of this habitat type have not received heavy use by domestic livestock (G. Yuncevich, in litt. 2000). The largest population of Silene spaldingii in Idaho occurs in canyon grassland habitat where it is seriously threatened by invasive weeds (J. Hill, in litt. 2000).

Due to the small number of populations, Silene spaldingii is vulnerable to unrestricted collection, vandalism, or other disturbance. In the absence of a finding that identification of critical habitat would increase threats to a species, if any benefits would result from a critical habitat designation, then a prudent finding is warranted. We do not have specific evidence of collection, vandalism, or trade of this species or any similarly situated species. In the case of Silene spaldingii, designation of critical habitat may provide some regulatory benefit through the section 7 requirement that Federal agencies refrain from taking any action that destroys or adversely modifies critical habitat. Designating critical habitat may also provide some educational or informational benefits.

On December 3, 1999 (64 FR 67814), we published a proposal, with additional background information, to list Silene spaldingii as a threatened species. In the proposed rule, we did not propose a critical habitat determination for Silene spaldingii, but stated that we would publish such a determination for this species in the Federal Register subsequent to the proposed rule. The original comment period closed on February 1, 2000. On April 24, 2000 (65 FR 21711), we published a notice of proposed critical habitat determination for Silene spaldingii. In that notice, we proposed that designation of critical habitat is prudent for Silene spaldingii, and the comment period closed on June 23, 2000.

Public Comments Solicited

It is our intent that any final action resulting from the proposal will be as accurate and as effective as possible. Therefore, we solicit comments or suggestions from the public, other concerned governmental agencies, the scientific community, industry, or any other interested party concerning the proposed rule. Our practice is to make comments including names and home addresses of respondents, available for public review during regular business hours. Individual respondents may request that we withhold their home address from the rulemaking record, which we will honor to the extend allowable by law. If you wish us to withhold your name and/or address, you must state this prominently at the beginning of your comment. However, we will not consider anonymous comments. We will make all submissions from organizations or businesses, and from individuals identifying themselves as representatives or officials of organizations or businesses, available for public inspection in their entirety. All comments, including written and e-mail, must be received in our Snake River Basin Office by September 22, 2000. We particularly seek comments concerning:

(1) Biological, commercial trade, or other relevant data concerning any threat (or lack thereof) to this species;

(2) The location of any additional occurrences of this species and the reasons why critical habitat should or should not be considered prudent for this species;

(3) Additional information concerning the range, distribution, and population size of this species;

(4) Current or planned activities in the range of this species and their possible impacts on Silene spaldingii or its habitat;

The final decision on the proposal to list Silene spaldingii, and make a critical habitat determination, will take into consideration the comments and any additional information we receive, and such communications may lead to a final regulation that differs from the proposal.

References Cited

Ertter, B. and R. Moseley. 1992. Floristic regions of Idaho. Journal of the Idaho Academy of Science 28(2):57-65.

Hitchcock, C.L. and A. Cronquist. 1973. Flora of the Pacific Northwest. University of Washington Press, Seattle, Washington.

Lesica, P. 1992. The effects of fire on Silene spaldingii at Dancing Prairie Preserve: 1992 progress report. The Nature Conservancy, Helena, Montana.

Lichthardt, J. 1997. Revised report on the conservation status of Silene spaldingii in Idaho. Idaho Department of Fish and Game, Conservation Data Center, Boise, Idaho.

Noss, R.F., E.T. LaRoe III, and J.M. Scott. 1995. Endangered ecosystems of the United States: a preliminary assessment of loss and degradation. U.S. Department of the Interior, National Biological Service, Washington, D.C.

Tisdale, E.W. 1961. Ecological changes in the Palouse. Northwest Science 35(4):134-138.

Tisdale, E.W. 1986. Native vegetation of Idaho. Rangelands 8(5):202-206.

Watson, S. 1875. Revision of the genus Ceanothus, and descriptions of new plants, with a synopsis of the western species of Silene. Proc. Am. Acad. 10:333-350.

Author

The primary author of this notice is Barb Behan, U.S. Fish and Wildlife Service, 911 N.E. 11th Avenue, Portland, Oregon.

Authority

The authority of this action is the Endangered Species Act of 1973, as amended (16 U.S.C. 1531 et seq.).

Dated: August 31, 2000.
Don Weathers,
Regional Director, Region 1, Portland, Oregon.

[FR Doc. 00-23037 Filed 9-7-00; 8:45 am]

BILLING CODE 4310-55-P